DEPARTMENT OF DEFENSE

Office of the Secretary

Charter Amendment of Department of Defense Federal Advisory Committees; Defense Business Board

AGENCY: Department of Defense (DoD).

ACTION: Charter amendment of Federal Advisory Committee.

SUMMARY: The DoD is publishing this notice to announce that it is amending the charter for the Defense Business Board (DBB).

FOR FURTHER INFORMATION CONTACT: Jim Freeman, DoD Advisory Committee Management Officer, 703-692-5952.

SUPPLEMENTARY INFORMATION: The DBB's charter is being amended in accordance with the Federal Advisory Committee Act (FACA) (5 U.S.C., Appendix) and 41 CFR 102-3.50(d). The charter and contact information for the DBB's Designated Federal Officer (DFO) are found at https://www.facadatabase.gov/FACA/apex/FACAPublicAgencyNavigation.

The DBB provides the Secretary of Defense and Deputy Secretary of Defense with independent advice and actionable recommendations to address critical matters and challenges to accelerate adoption of effective and efficient business processes and functions, organizational management constructs, and business and organizational cultural changes within the DoD in response to specific tasking from the Secretary of Defense or the Deputy Secretary of Defense (“the DoD Appointing Authority”). The DBB examines and advises on DoD executive management, innovative business processes, and governance from private, public, and academic sector perspectives. The DBB is composed of no more than 20 members who meet one of more of the following criteria: (a) Proven track record of sound judgement in leading or governing large, complex public or private-sector organizations, including academia; (b) significant management-level (executive level managers that are titled “chief” followed by their function) global business or academic experience including, but not limited to the areas of executive management, corporate strategy, governance, business process improvement and innovation, global business services/shared services, audit and finance, supply chain and logistics, human resources/talent management, data/analytics management and use, real property management, organizational design and optimization, energy and climate, or technology; (c) demonstrated performance in developing new business theories, innovation, and concepts; (d) career as a distinguished academic or researcher in business at an accredited college or institute of higher education; or (e) a proven track record as an innovative leader in small and minority owned businesses.

Individual members are appointed according to DoD policy and procedures, and serve a term of service of one-to-four years with annual renewals. One member will be appointed as Chair of the DBB. No member, unless approved according to DoD policy and procedures, may serve more than two consecutive terms of service on the DBB, or serve on more than two DoD Federal advisory committees at one time.

DBB members who are not full-time or permanent part-time Federal civilian officers or employees, or active duty members of the Uniformed Services, are appointed as experts or consultants, pursuant to 5 U.S.C. 3109, to serve as special government employee members. DBB members who are full-time or permanent part-time Federal civilian officers or employees, or active duty members of the Uniformed Services are appointed pursuant to 41 CFR 102-3.130(a), to serve as regular government employee members.

All DBB members are appointed to provide advice based on their best judgment without representing any particular point of view and in a manner that is free from conflict of interest. Except for reimbursement of official DBB-related travel and per diem, members serve without compensation.

The public or interested organizations may submit written statements about the DBB's mission and functions. Written statements may be submitted at any time or in response to the stated agenda of planned meeting of the DBB. All written statements shall be submitted to the DFO for the DBB, and this individual will ensure that the written statements are provided to the membership for their consideration.

Dated: October 15, 2021.
Aaron T. Siegel,
Alternate OSD Federal Register Liaison Officer, Department of Defense.

[FR Doc. 2021-22856 Filed 10-19-21; 8:45 am]

BILLING CODE 5001-06-P